DEPARTMENT OF HEALTH AND HUMAN SERVICES

Indian Health Service

Request for Public Comment: 60 Day Proposed Information Collection: Indian Health Service Information Security Ticketing and Incident Reporting

AGENCY: Indian Health Service, HHS.

ACTION: Notice and request for comments.

SUMMARY: In compliance with the Paperwork Reduction Act of 1995, which requires 60 days for public comment on proposed information collection projects, the Indian Health Service (IHS) invites the general public to take this opportunity to comment on the information collection Office of Management and Budget (OMB) Control Number 0917-XXXX, titled, Information Security Ticketing and Incident Reporting. The purpose of this notice is to allow 60 days for public comment to be submitted directly to OMB. A copy of the draft supporting statement is available at www.regulations.gov (see Docket ID IHS_FRDOC_001).

SUPPLENTARY INFORMATION: The IHS Office of Information Technology is submitting the proposed information collection to OMB for review, as required by the Paperwork Reduction Act of 1995. This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques of other forms of information technology, e.g., permitting electronic submission of responses.

Proposed Collection: Title: 0917-XXXX, “Information Security Ticketing and Incident Reporting.”

Type of Information Collection Request: This is a new information request for a three year approval of this new information collection, 0917-XXXX.

Form(s) and Form number(s): Incident Reporting Form, Form F07-02b.

Title of Proposal: Information Security Ticketing and Incident Reporting

OMB Control Number: To be assigned.

Need and Use of Information Collection: The Indian Health Service (IHS) uses secure information technology (IT) to improve health care quality, enhance access to specialty care, reduce medical errors, and modernize administrative functions consistent with the Department of Health and Human Services (HHS) enterprise initiatives.

IHS is responsible for maintaining an information security program that provides protection for information collected or maintained by or on behalf of the Agency, and protection for information systems used or operated by the Agency or by another organization on behalf of the Agency.

Members of Affected Public: IHS staff, including federal and non-federal employees (contractors, Tribal employees, etc.).

Status of the Proposed Information Collection: New request.

Type of Respondents: Individuals.

The table below provides: Types of data collection instruments, estimation to number of respondents, number of responses per respondent, annual number of responses, average burden hour per response, and total annual burden hours.

Data collection instrument(s) | Estimated number of respondents | Responses per respondent | Annual number of responses | Average burden hour per response * | Total annual burden hours
IHS Federal and Non-Federal Staff | 1700 | 1 | 1700 | 15 | 425
Total | 1700 | 1 | 1700 | 15 | 425
* For ease of understanding, average burden hours are provided in actual minutes. There are no direct costs, to respondents to report.

For Comments: Submit comments, requests for more information on the collection, or requests to obtain a copy of the data collection instrument and instruction to CDR. Steven Miller, by one of the following methods:

• Mail: CDR. Steven Miller, Indian Health Service, 5600 Fishers Lane, STOP 07E30, Rockville, MD 20857.

• Phone: (301) 443-2452.

• Email: steven.miller@ihs.gov.

Comment Due Date: Your comments regarding this information collection are best assured of having full effect if received within 60 days of the date of this publication.

Dated: November 17, 2017.
Michael D. Weahkee,
Assistant Surgeon General, U.S. Public Health Service, Acting Director, Indian Health Service.

[FR Doc. 2017-25814 Filed 11-29-17; 8:45 am]

BILLING CODE 4165-16-P